DEPARTMENT OF LABOR

Occupational Safety and Health Administration

[Docket No. OSHA-2011-0035]

Subpart A (General Provisions) and Subpart B (Confined and Enclosed Spaces and other Dangerous Atmospheres in Shipyard Employment); Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the subpart A (General Provisions) and subpart B (Confined and Enclosed Spaces and other Dangerous Atmospheres in Shipyard Employment).

DATES: Comments must be submitted (postmarked, sent, or received) by July 22, 2024.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2011-0035) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The following is a description of the requirements in subparts A and B that pertain to the collection and retention of information. Two provisions in subpart A contains paperwork requirements (§ 1915.7). Section 1915.7(b)(2) specifies that shipyard employers must maintain a roster of designated competent persons (for inspecting and testing spaces covered by subpart B), or a statement that a marine chemist will perform these inspections and tests. Section 1915.7(d) requires employers to ensure that competent persons, marine chemists, and certified industrial hygienists (CIHs) make a record of each inspection and test they conduct, post the record near the covered space while work is in progress, and retain the record for at least three months. In addition, employers must make the roster or statement, and the inspection and test records available by designated parties.

Subpart B consists of several standards governing entry into confined and enclosed spaces and other dangerous atmospheres in shipyard employment. These standards require that employers:

• Ensure that competent persons conduct inspections and atmospheric testing prior to workers entering a confined or enclosed space (§§ 1915.12(a)-(c));

• Warn workers not to enter hazardous spaces and other dangerous atmospheres (§§ 1915.12(a)-(c) and 1915.16);

• Certify that workers who will be entering confined or enclosed spaces have been trained (§ 1915.12(d)(5));

• Establish and train shipyard rescue teams or arrange for outside rescue teams, and provide them with information on the hazards that they may encounter (§ 1915.12(e));

• Ensure that one person on each rescue team maintains a current first aid training certificate (§ 1915.12(e)(1)(iv));

• Exchange information regarding hazards, safety rules, and emergency procedures concerning confined and enclosed spaces, and atmospheres with other employers whose workers may enter these spaces and atmospheres (§ 1915.12(f));

• Ensure testing of spaces having contained bulk quantities of combustible or flammable liquids or gases, and toxic, corrosive, or irritating substances before cleaning and other cold work is started, and as necessary thereafter while the operations are ongoing (§§ 1915.13(b)(2) and (4));

• Posting signs prohibiting ignition sources within or near a space that has contained bulk quantities of flammable or combustible liquids or gases (§ 1915.13(b)(10));

• Ensure that confined and enclosed spaces and other atmospheres, and boundaries of spaces or pipelines are tested before workers perform hot work in these work areas (§ 1915.14(a)(1));

• Post certificates of testing conducted by a Marine Chemist or Coast Guard authorized person, indicating it is “Safe for Hot Work,” in the immediate vicinity of the hot-work operation while the operation is in progress (§§ 1915.14(a));

• Retain certificates of testing conducted by a Marine Chemist or Coast Guard authorized person on file for at least three months after completing the operation (§ 1915.14(a)(2)); and

• Post warning labels, indicating it is “Not Safe for Hot Work,” where testing of a space or adjacent space where the hot work is to be done has a concentration of flammable vapors or gases equal to or greater than 10 percent of the lower explosive limit.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is requesting that OMB extend the approval of the information collection requirements contained in Subpart A (General Provisions) and Subpart B (Confined and Enclosed Spaces and other Dangerous Atmospheres in Shipyard Employment). The agency is requesting an adjustment decrease in burden from 566,818 hours to 558,598 hours, a difference of 8,220 hours. This adjustment decrease is due to the decrease in the number of establishments from 4,716 to 4,674 and a decrease in the number of employees from 150,866 to 150,158.

OSHA will summarize the comments submitted in response to this notice and will include this summary in the request to OMB to extend the approval of the information collection requirements.

Type of Review: Extension of a currently approved collection.

Title: Subpart A (General Provisions) and Subpart B (Confined and Enclosed Spaces and other Dangerous Atmospheres in Shipyard Employment).

OMB Control Number: 1218-0011.

Affected Public: Business or other for-profits.

Number of Respondents: 4,674.

Number of Responses: 3,505,495.

Frequency of Responses: 1.

Average Time per Response: Varies.

Estimated Total Burden Hours: 558,598.

Estimated Cost (Operation and Maintenance): $0.

IV. Public Participation—Submission of Comments on this Notice and Internet Access to Comments and Submissions

You may submit comments in response to this document as follows: (1) electronically at https://www.regulations.gov, which is the Federal eRulemaking Portal; or (2) by facsimile (fax), if your comments, including attachments, are not longer than 10 pages you may fax them to the OSHA Docket Office at 202-693-1648. All comments, attachments, and other material must identify the agency name and the OSHA docket number for the ICR (OSHA-2011-0035). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on May 15, 2024.
James S. Frederick,
Deputy Assistant Secretary of Labor for Occupational Safety and Health.

[FR Doc. 2024-11174 Filed 5-21-24; 8:45 am]

BILLING CODE 4510-26-P